DEPARTMENT OF DEFENSE

Department of the Army; Corps of Engineers

Intent To Prepare a Draft Supplement to the July 2011 Environmental Impact Statement for the Proposed SR 1409 (Military Cutoff Road) Extension and Proposed U.S. 17 Hampstead Bypass New Hanover and Pender Counties in North Carolina, NCDOT TIP Projects U-4751 and R-3300

AGENCY: Department of the Army, U.S. Army Corps of Engineers, DoD.

ACTION: Notice of intent.

SUMMARY: The U.S. Army Corps of Engineers (USACE), Wilmington District, Wilmington Regulatory Field Office has received updated information for a future request for Department of the Army (DA) authorization, pursuant to Section 404 of the Clean Water Act and Section 10 of the Rivers and Harbor Act, from the North Carolina Department of Transportation. This updated information was generated as the project was scoped and designed with input from the public and applicable resource agencies. Specifically, since release of the July 2011 Draft Environmental Impact Statement (EIS) the project now proposes an additional interchange on the north end of the project corridor as well as additional lanes not originally disclosed in the Draft EIS.

FOR FURTHER INFORMATION CONTACT: Questions about the proposed action and DEIS can be directed to Mr. Brad Shaver, Regulatory Project Manager, Wilmington Regulatory Field Office, 69 Darlington Ave, Wilmington, NC 28403; telephone: (910) 251-4611 or brad.e.shaver@usace.army.mil. or Mr. Jay McInnis, Jr., P.E., Project Engineer, North Carolina Department of Transportation, 1548 Mail Service Center, Raleigh, NC 27699-1548, telephone: (919) 707-6029.

SUPPLEMENTARY INFORMATION: 1. Proposed Action. The COE in cooperation with the North Carolina Department of Transportation will prepare a supplement to the Draft (EIS) on a proposal to make transportation improvements to the U.S. 17 and Market Street (U.S. 17 Business) corridor in northern New Hanover and southern Pender Counties. Two North Carolina Department of Transportation Improvement Program (TIPs U-4751 and R-3300) projects are being evaluated as part of the U.S. 17 Corridor Study.

The purpose of the U.S. 17 Corridor Study project is to improve the traffic carrying capacity and safety of the U.S. 17 and Market Street corridor in the project area. The project study area is roughly bounded on the west by I-40, on the north by the Northeast Cape Fear River, Holly Shelter Game Lands to the east, and Market Street and U.S. 17 to the south.

This project is being reviewed through the Merger 01 process designed to streamline the project development and permitting processes, agreed to by the COE, North Carolina Department of Environment and Natural Resources (Division of Water Quality, Division of Coastal Management), Federal Highway Administration (for this project not applicable), and the North Carolina Department of Transportation and supported by other stakeholder agencies and local units of government. The other partnering agencies include: U.S. Environmental Protection Agency; U.S. Fish and Wildlife Service; N.C. Wildlife Resources Commission; N.C. Department of Cultural Resources; and the Wilmington Metropolitan Planning Organization. The Merger process provides a forum for appropriate agency representatives to discuss and reach consensus on ways to facilitate meeting the regulatory requirements of Section 404 of the Clean Water Act during the NEPA/SEPA decision-making phase of transportation projects.

Through input from the public and resource agencies the project has been changed to include a second interchange at the northern terminus. Additionally, the project currently proposes additional travel lanes between a previously proposed interchange south of the Topsail High School and the aforementioned northern interchange. These changes were considered substantial changes which the public has not had input and thus necessitates the development and release of the supplement Draft EIS. The original Draft EIS is still available for review on the project Web page: http://www.ncdot.gov/projects/US17HampsteadBypass/.

2. Scoping Process. As described above the project is progressing through the Merger process which allows for input from interested stake holders. Additionally, the NCDOT held two corridor public hearings one on October 27, 2011 at Noble Middle School in Wilmington and the other on October 18, 2011 at Topsail High School in Hampstead. The described changes came as a direct result from the agency and public input. The NCDOT anticipates holding future design public hearings to further describe changes to the project since 2011.

A 45-day public review period will be provided for all interested parties, individuals, and agencies to review and comment on the Draft Supplement to the EIS when released.

3. Availability of the Supplement to the EIS. The Draft Supplement is expected to be published and circulated late Summer or Fall of 2013.

Dated: July 15, 2013.
Henry Wicker,
Asst. Chief, Regulatory Division.

[FR Doc. 2013-17906 Filed 7-24-13; 8:45 am]

BILLING CODE 3720-58-P